DEPARTMENT OF TRANSPORTATION

Office of the Secretary

[Docket No. DOT-OST-2025-0468]

Request for Information; Extension of Comment Period

AGENCY: Office of the Secretary, Department of Transportation.

ACTION: Request for information; extension of comment period.

SUMMARY: On July 21, 2025, the Office of the Secretary within the Department of Transportation (DOT), published in the Federal Register a request for information (RFI) in preparation for the next surface transportation reauthorization bill. The RFI provided for a 30-day comment period, which closes on August 20, 2025. DOT has determined that an extension of the comment period until September 8, 2025 is appropriate. This action will allow interested parties additional time to prepare information and comments.

DATES: The comment period for the notice published on July 21, 2025 (90 FR 34338), regarding the RFI on the next surface transportation reauthorization bill, is extended. Comments must be received on or before September 8, 2025.

ADDRESSES: Written comments may be submitted electronically or via U.S. mail. Respondents are encouraged to submit comments electronically to ensure timely receipt. Please include your name, title, organization, postal address, telephone number, and email address.

Electronic Submission: Go to http://www.regulations.gov. Search by using the docket number (provided above). Follow the instructions for submitting comments on the electronic docket site.

Email: STR2026@dot.gov. Please include the full body of your comments in the text of the electronic message and as an attachment.

Mail: Dockets Operation; U.S. Department of Transportation, 1200 New Jersey Avenue SE, West Building, Ground Floor, W12-140, Washington, DC 20590-0001.

Instructions: All submissions should include the agency name and docket number.

FOR FURTHER INFORMATION CONTACT: Daniel Cohen, Assistant General Counsel for Regulation and Legislation, at STR2026@dot.gov or (202) 366-4702.

SUPPLEMENTARY INFORMATION: On July 21, 2025, DOT published in the Federal Register an RFI soliciting comments on the next surface transportation reauthorization bill. The RFI stated that the comment period would close on August 20, 2025. DOT has received several requests to extend the comment period. An extension of the comment period will allow interested parties additional time to prepare information and comments. Therefore, DOT is extending the end of the comment period for the RFI from August 20, 2025, to September 8, 2025.

Department of Transportation.
Issued in Washington, DC, on August 18, 2025.
Gregory D. Cote,
Acting General Counsel.

[FR Doc. 2025-15862 Filed 8-19-25; 8:45 am]

BILLING CODE 4910-9X-P